DEPARTMENT OF COMMERCE

National Oceanic and Atmospheric Administration

[RTID 0648-XA617]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its American Samoa Archipelago Fishery Ecosystem Plan (FEP) Advisory Panel (AP), Mariana Archipelago FEP-Guam AP, Hawaii Archipelago FEP AP, and Mariana Archipelago FEP-Commonwealth of the Northern Mariana Islands (CNMI) AP to discuss and make recommendations on fishery management issues in the Western Pacific Region.

DATES: The American Samoa Archipelago FEP AP will meet on Wednesday, November 18, 2020, from 5 p.m. to 7:30 p.m.; the Mariana Archipelago FEP-Guam AP will meet on Thursday, November 19, 2020, from 6:30 p.m. to 8:30 p.m.; the Hawaii Archipelago FEP AP will meet on Friday, November 20, 2020, from 9 a.m. to 11 a.m.; and the Mariana Archipelago FEP-CNMI AP will meet on Saturday, November 21, 2020, from 9 a.m. to 11 a.m. All times listed are local island times. For specific times and agendas, see SUPPLEMENTARY INFORMATION.

ADDRESSES: Each of the meetings will be held by web conference. Audio and visual portions for all of the web conferences can be accessed at: https://wprfmc.webex.com/join/info.wpcouncilnoaa.gov. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: Public comment periods will be provided in the agenda. Information on how to provide public comment will be posted on the Council's website at www.wpcouncil.org. The order in which agenda items are addressed may change. The meetings will run as late as necessary to complete scheduled business.

Schedule and Agenda for the American Samoa FEP AP Meeting

Wednesday, November 18, 2020, from 5 p.m.-7:30 p.m.

1. Welcome and Introductions

2. Review of the Last AP Meeting and Recommendations

3. Council Issues

A. American Samoa Bottomfish

i. Development of Annual Catch Limits for 2020-21

ii. Development of a Stock Rebuilding Plan

B. Considerations for Developing Reasonable and Prudent Measures (RPMs) and/or Reasonable and Prudent Alternatives (RPAs) for the American Samoa Longline Fishery

4. American Samoa Reports

5. Report on American Samoa Archipelago FEP AP Plan Activities

6. Fishery Issues and Activities

7. Public Comment

8. Discussion and Recommendations

9. Other Business

Schedule and Agenda for the Mariana Archipelago FEP-Guam AP Meeting

Thursday, November 19, 2020, 6:30 p.m.-8:30 p.m.

1. Welcome and Introductions

2. Review of the Last AP Meeting and Recommendations

3. Council Issues

A. Development of a Bottomfish Stock Rebuilding Plan

4. Guam Reports

5. Report on Mariana Archipelago FEP Advisory Panel Plan Activities

6. Fishery Issues and Activities

7. Public Comment

8. Discussion and Recommendations

9. Other Business

Schedule and Agenda for the Hawaii Archipelago FEP AP Meeting

Friday, November 20, 2020, 9 a.m.-11 a.m.

1. Welcome and Introductions

2. Review of the Last AP Meeting and Recommendations

3. Council Issues

A. Options for Including Tori Lines in the Hawaii Longline Fishery Seabird Mitigation Measures

B. Considerations for Developing Reasonable and Prudent Measures and/or Reasonable and Prudent Alternatives for the Hawaii Longline Fishery

C. Comments on False Killer Whale Take and Recovery Plans

D. Hawaii Fishery Management Plans

4. Hawaii Reports

5. Report on Hawaii Archipelago FEP AP Plan Activities

6. Fishery Issues and Activities

7. Public Comment

8. Discussion and Recommendations

9. Other Business

Schedule and Agenda for the Mariana Archipelago FEP-CNMI AP Meeting

Saturday, November 21, 2020, 9 a.m.-11 a.m.

1. Welcome and Introductions

2. Review of the Last AP Meeting and Recommendations

3. Council Issues

A. Development of a Bottomfish Stock Rebuilding Plan for Guam

4. CNMI Reports

5. Report on Mariana Archipelago FEP AP Plan Activities

6. Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 30, 2020.
Tracey L. Thompson,
Acting Deputy Director, Office of Sustainable Fisheries, National Marine Fisheries Service.

[FR Doc. 2020-24433 Filed 11-3-20; 8:45 am]

BILLING CODE 3510-22-P